COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 1/30/2012.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or email CMTEFedReg@AbilityOne.gov.

SUPPLEMENTARY INFORMATION:

Additions

On 10/7/2011 (76 FR 62391-62393), 10/14/2011 (76 FR 63905-63906), and 10/28/2011(76 FR 66913-66914), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 USC Chapter 85 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 USC Chapter 85) in connection with the products and services proposed for addition to the Procurement List.

End of Certification

Accordingly, the following products and services are added to the Procurement List:

Products

Gloves, Surgical

NSN: 6515-00-NIB-0627—Gloves, Surgical, Powder-free, Biogel, PI Indicator, Underglove, Blue, Size 5.5″.

NSN: 6515-00-NIB-0628—Gloves, Surgical, Powder-free, Biogel, PI Indicator, Underglove, Blue, Size 6″.

NSN: 6515-00-NIB-0629—Gloves, Surgical, Powder-free, Biogel, PI Indicator, Underglove, Blue, Size 6.5″.

NSN: 6515-00-NIB-0630—Gloves, Surgical, Powder-free, Biogel, PI Indicator, Underglove, Blue, Size 7″.

NSN: 6515-00-NIB-0631—Gloves, Surgical, Powder-free, Biogel, PI Indicator, Underglove, Blue, Size 7.5″.

NSN: 6515-00-NIB-0632—Gloves, Surgical, Powder-free, Biogel, PI Indicator, Underglove, Blue, Size 8″.

NSN: 6515-00-NIB-0633—Gloves, Surgical, Powder-free, Biogel, PI Indicator, Underglove, Blue, Size 8″.

NSN: 6515-00-NIB-0634—Gloves, Surgical, Powder-free, Biogel, PI Indicator, Underglove, Blue, Size 9″.

NSN: 6515-00-NIB-0635—Gloves, Surgical, Powder-free, Biogel, PI Ultratouch G, Straw colored, Size 5.5″.

NSN: 6515-00-NIB-0636—Gloves, Surgical, Powder-free, Biogel, PI Ultratouch G, Straw colored, Size 6″.

NSN: 6515-00-NIB-0637—Gloves, Surgical, Powder-free, Biogel, PI Ultratouch G, Straw colored, Size 6.5″.

NSN: 6515-00-NIB-0638—Gloves, Surgical, Powder-free, Biogel, PI Ultratouch G, Straw colored, Size 7″.

NSN: 6515-00-NIB-0639—Gloves, Surgical, Powder-free, Biogel, PI Ultratouch G, Straw colored, Size 7.5″.

NSN: 6515-00-NIB-0640—Gloves, Surgical, Powder-free, Biogel, PI Ultratouch G, Straw colored, Size 8″.

NSN: 6515-00-NIB-0641—Gloves, Surgical, Powder-free, Biogel, PI Ultratouch G, Straw colored, Size 8.5″.

NSN: 6515-00-NIB-0642—Gloves, Surgical, Powder-free, Biogel, PI Ultratouch G, Straw colored, Size 9″.

NSN: 6515-00-NIB-0643—Gloves, Surgical, Powder-free, Biogel, PI Ultratouch M, Straw colored, Size 5.5″.

NSN: 6515-00-NIB-0644—Gloves, Surgical, Powder-free, Biogel, PI Ultratouch M, Straw colored, Size 6″.

NSN: 6515-00-NIB-0645—Gloves, Surgical, Powder-free, Biogel, PI Ultratouch M, Straw colored, Size 6.5″.

NSN: 6515-00-NIB-0646—Gloves, Surgical, Powder-free, Biogel, PI Ultratouch M, Straw colored, Size 7″.

NSN: 6515-00-NIB-0647—Gloves, Surgical, Powder-free, Biogel, PI Ultratouch M, Straw colored, Size 7.5″.

NSN: 6515-00-NIB-0648—Gloves, Surgical, Powder-free, Biogel, PI Ultratouch M, Straw colored, Size 8″.

NSN: 6515-00-NIB-0649—Gloves, Surgical, Powder-free, Biogel, PI Ultratouch M, Straw colored, Size 8.5″.

NSN: 6515-00-NIB-0650—Gloves, Surgical, Powder-free, Biogel, PI Ultratouch M, Straw colored, Size 9″.

NSN: 6515-00-NIB-0651—Gloves, Surgical, Powder-free, Biogel, Neoderm, Brown, Size 5.5″.

NSN: 6515-00-NIB-0652—Gloves, Surgical, Powder-free, Biogel, Neoderm, Brown, Size 6″.

NSN: 6515-00-NIB-0653—Gloves, Surgical, Powder-free, Biogel, Neoderm, Brown, Size 6.5″.

NSN: 6515-00-NIB-0654—Gloves, Surgical, Powder-free, Biogel, Neoderm, Brown, Size 7″.

NSN: 6515-00-NIB-0655—Gloves, Surgical, Powder-free, Biogel, Neoderm, Brown, Size 7.5″.

NSN: 6515-00-NIB-0656—Gloves, Surgical, Powder-free, Biogel, Neoderm, Brown, Size 8″.

NSN: 6515-00-NIB-0657—Gloves, Surgical, Powder-free, Biogel, Neoderm, Brown, Size 8.5″.

NSN: 6515-00-NIB-0658—Gloves, Surgical, Powder-free, Biogel, Neoderm, Brown, Size 9″.

NSN: 6515-00-NIB-0659—Gloves, Surgical, Powder-free, Derma Prene, Isotouch Ortho, Green, Size 6″.

NSN: 6515-00-NIB-0660—Gloves, Surgical, Powder-free, Derma Prene, Isotouch Ortho, Green, Size 6.5″.

NSN: 6515-00-NIB-0661—Gloves, Surgical, Powder-free, Derma Prene, Isotouch Ortho, Green, Size 7″.

NSN: 6515-00-NIB-0662—Gloves, Surgical, Powder-free, Derma Prene, Isotouch Ortho, Green, Size 7.5″.

NSN: 6515-00-NIB-0663—Gloves, Surgical, Powder-free, Derma Prene, Isotouch Ortho, Green, Size 8″.

NSN: 6515-00-NIB-0664—Gloves, Surgical, Powder-free, Derma Prene, Isotouch Ortho, Green, Size 8.5″.

NSN: 6515-00-NIB-0665—Gloves, Surgical, Powder-free, Derma Prene, Isotouch Ortho, Green, Size 9″.

NSN: 6515-00-NIB-0666—Gloves, Surgical, Powder-free, Derma Prene, Isotouch Micro, Green, Size 5.5″.

NSN: 6515-00-NIB-0667—Gloves, Surgical, Powder-free, Derma Prene, Isotouch Micro, Green, Size 6″

NSN: 6515-00-NIB-0668—Gloves, Surgical, Powder-free, Derma Prene, Isotouch Micro, Green, Size 6.5″.

NSN: 6515-00-NIB-0669—Gloves, Surgical, Powder-free, Derma Prene, Isotouch Micro, Green, Size 7″.

NSN: 6515-00-NIB-0670—Gloves, Surgical, Powder-free, Derma Prene, Isotouch Micro, Green, Size 7.5″.

NSN: 6515-00-NIB-0671—Gloves, Surgical, Powder-free, Derma Prene, Isotouch Micro, Green, Size 8″.

NSN: 6515-00-NIB-0672—Gloves, Surgical, Powder-free, Derma Prene, Isotouch Micro, Green, Size 8.5″.

NSN: 6515-00-NIB-0673—Gloves, Surgical, Powder-free, Derma Prene, Isotouch Micro, Green, Size 9″.

NSN: 6515-00-NIB-0674—Gloves, Surgical, Powder-free, Derma Prene, Isotouch Hydrasoft, Green, Size 5.5″.

NSN: 6515-00-NIB-0675—Gloves, Surgical, Powder-free, Derma Prene, Isotouch Hydrasoft, Green, Size 6″.

NSN: 6515-00-NIB-0676—Gloves, Surgical, Powder-free, Derma Prene, Isotouch Hydrasoft, Green, Size 6.5″.

NSN: 6515-00-NIB-0677—Gloves, Surgical, Powder-free, Derma Prene, Isotouch Hydrasoft, Green, Size 7″.

NSN: 6515-00-NIB-0678—Gloves, Surgical, Powder-free, Derma Prene, Isotouch Hydrasoft, Green, Size 7.5″.

NSN: 6515-00-NIB-0679—Gloves, Surgical, Powder-free, Derma Prene, Isotouch Hydrasoft, Green, Size 8″.

NSN: 6515-00-NIB-0680—Gloves, Surgical, Powder-free, Derma Prene, Isotouch Hydrasoft, Green, Size 8.5″.

NSN: 6515-00-NIB-0681—Gloves, Surgical, Powder-free, Derma Prene, Isotouch Hydrasoft, Green, Size 9″.

NSN: 6515-00-NIB-0682—Gloves, Surgical, Powder-free, Derma Prene, Isotouch Micro, White, Size 5.5″.

NSN: 6515-00-NIB-0683—Gloves, Surgical, Powder-free, Derma Prene, Isotouch Micro, White, Size 6″.

NSN: 6515-00-NIB-0684—Gloves, Surgical, Powder-free, Derma Prene, Isotouch Micro, White, Size 6.5″.

NSN: 6515-00-NIB-0685—Gloves, Surgical, Powder-free, Derma Prene, Isotouch Micro, White, Size 7″.

NSN: 6515-00-NIB-0686—Gloves, Surgical, Powder-free, Derma Prene, Isotouch Micro, White, Size 7.5″.

NSN: 6515-00-NIB-0687—Gloves, Surgical, Powder-free, Derma Prene, Isotouch Micro, White, Size 8″.

NSN: 6515-00-NIB-0688—Gloves, Surgical, Powder-free, Derma Prene, Isotouch Micro, White, Size 8.5″.

NSN: 6515-00-NIB-0689—Gloves, Surgical, Powder-free, Derma Prene, Isotouch Micro, White, Size 9″.

NSN: 6515-00-NIB-0690—Gloves, Surgical, Powder-free, Derma Prene, Isotouch White, White, Size 5.5″.

NSN: 6515-00-NIB-0691—Gloves, Surgical, Powder-free, Derma Prene, Isotouch White, White, Size 6″.

NSN: 6515-00-NIB-0692—Gloves, Surgical, Powder-free, Derma Prene, Isotouch White, White, Size 6.5″.

NSN: 6515-00-NIB-0693—Gloves, Surgical, Powder-free, Derma Prene, Isotouch White, White, Size 7″.

NSN: 6515-00-NIB-0694—Gloves, Surgical, Powder-free, Derma Prene, Isotouch White, White, Size 7.5″.

NSN: 6515-00-NIB-0695—Gloves, Surgical, Powder-free, Derma Prene, Isotouch White, White, Size 8″.

NSN: 6515-00-NIB-0696—Gloves, Surgical, Powder-free, Derma Prene, Isotouch White, White, Size 8.5″ .

NSN: 6515-00-NIB-0697—Gloves, Surgical, Powder-free, Derma Prene, Isotouch White, White, Size 9″.

NSN: 6515-00-NIB-0698—Gloves, Surgical, Powder-free, Neolon 2G, Brown, Size 5.5″.

NSN: 6515-00-NIB-0699—Gloves, Surgical, Powder-free, Neolon 2G, Brown, Size 6″.

NSN: 6515-00-NIB-0700—Gloves, Surgical, Powder-free, Neolon 2G, Brown, Size 6.5″.

NSN: 6515-00-NIB-0701—Gloves, Surgical, Powder-free, Neolon 2G, Brown, Size 7″.

NSN: 6515-00-NIB-0702—Gloves, Surgical, Powder-free, Neolon 2G, Brown, Size 7.5″.

NSN: 6515-00-NIB-0703—Gloves, Surgical, Powder-free, Neolon 2G, Brown, Size 8″.

NSN: 6515-00-NIB-0704—Gloves, Surgical, Powder-free, Neolon 2G, Brown, Size 8.5″.

NSN: 6515-00-NIB-0705—Gloves, Surgical, Powder-free, Neolon 2G, Brown, Size 9″ .

NSN: 6515-00-NIB-0706—Gloves, Surgical, Powder free, Sensicare SLT, cream-colored, Size 5.5″ .

NSN: 6515-00-NIB-0707—Gloves, Surgical, Powder free, Sensicare SLT, cream-colored, Size 6″.

NSN: 6515-00-NIB-0708—Gloves, Surgical, Powder free, Sensicare SLT, cream-colored, Size 6.5″.

NSN: 6515-00-NIB-0709—Gloves, Surgical, Powder free, Sensicare SLT, cream-colored, Size 7″.

NSN: 6515-00-NIB-0710—Gloves, Surgical, Powder free, Sensicare SLT, cream-colored, Size 7.5″.

NSN: 6515-00-NIB-0711—Gloves, Surgical, Powder free, Sensicare SLT, cream-colored, Size 8″.

NSN: 6515-00-NIB-0712—Gloves, Surgical, Powder free, Sensicare SLT, cream-colored, Size 8.5″ .

NSN: 6515-00-NIB-0713—Gloves, Surgical, Powder free, Sensicare SLT, cream-colored, Size 9″.

NSN: 6515-00-NIB-0773—Gloves, Surgical, Powder free, Sensicare Ortho, White, Size 5.5″.

NSN: 6515-00-NIB-0714—Gloves, Surgical, Powder free, Sensicare Ortho, White, Size 6″.

NSN: 6515-00-NIB-0715—Gloves, Surgical, Powder free, Sensicare Ortho, White, Size 6.5″.

NSN: 6515-00-NIB-0716—Gloves, Surgical, Powder free, Sensicare Ortho, White, Size 7″.

NSN: 6515-00-NIB-0717—Gloves, Surgical, Powder free, Sensicare Ortho, White, Size 7.5″.

NSN: 6515-00-NIB-0718—Gloves, Surgical, Powder free, Sensicare Ortho, White, Size 8.0″.

NSN: 6515-00-NIB-0719—Gloves, Surgical, Powder free, Sensicare Ortho, White, Size 8.5″ .

NSN: 6515-00-NIB-0720—Gloves, Surgical, Powder free, Sensicare Ortho, White, Size 9″.

NSN: 6515-00-NIB-0721—Gloves, Surgical, Powder-free, Esteem Micro, Light Blue, Size 5.5″.

NSN: 6515-00-NIB-0722—Gloves, Surgical, Powder-free, Esteem Micro, Light Blue, Size 6″.

NSN: 6515-00-NIB-0723—Gloves, Surgical, Powder-free, Esteem Micro, Light Blue, Size 6.5″.

NSN: 6515-00-NIB-0724—Gloves, Surgical, Powder-free, Esteem Micro, Light Blue, Size 7″ .

NSN: 6515-00-NIB-0725—Gloves, Surgical, Powder-free, Esteem Micro, Light Blue, Size 7.5″.

NSN: 6515-00-NIB-0774—Gloves, Surgical, Powder-free, Esteem Micro, Light Blue, Size 8″.

NSN: 6515-00-NIB-0726—Gloves, Surgical, Powder-free, Esteem Micro, Light Blue, Size 8.5″.

NSN: 6515-00-NIB-0727—Gloves, Surgical, Powder-free, Esteem Micro, Light Blue, Size 9″.

NSN: 6515-00-NIB-0728—Gloves, Surgical, Powder-free, Esteem Ortho, Green, Size 6.0″.

NSN: 6515-00-NIB-0729—Gloves, Surgical, Powder-free, Esteem Ortho, Green, Size 6.5″.

NSN: 6515-00-NIB-0730—Gloves, Surgical, Powder-free, Esteem Ortho, Green, Size 7″.

NSN: 6515-00-NIB-0731—Gloves, Surgical, Powder-free, Esteem Ortho, Green, Size 7.5″.

NSN: 6515-00-NIB-0732—Gloves, Surgical, Powder-free, Esteem Ortho, Green, Size 8″.

NSN: 6515-00-NIB-0733—Gloves, Surgical, Powder-free, Esteem Ortho, Green, Size 8.5″.

NSN: 6515-00-NIB-0734—Gloves, Surgical, Powder-free, Esteem Ortho, Green, Size 9″.

NSN: 6515-00-NIB-0735—Gloves, Surgical, Powder-free, Biogel, Orthopro Indicator, Underglove, Green, Size 6″ .

NSN: 6515-00-NIB-0736—Gloves, Surgical, Powder-free, Biogel, Orthopro Indicator, Underglove, Green, Size 6.5″ .

NSN: 6515-00-NIB-0737—Gloves, Surgical, Powder-free, Biogel, Orthopro Indicator, Underglove, Green, Size 7″.

NSN: 6515-00-NIB-0738—Gloves, Surgical, Powder-free, Biogel, Orthopro Indicator, Underglove, Green, Size 7.5″.

NSN: 6515-00-NIB-0739—Gloves, Surgical, Powder-free, Biogel, Orthopro Indicator, Underglove, Green, Size 8″.

NSN: 6515-00-NIB-0740—Gloves, Surgical, Powder-free, Biogel, Orthopro Indicator, Underglove, Green, Size 8.5″.

NSN: 6515-00-NIB-0741—Gloves, Surgical, Powder-free, Biogel, Orthopro Indicator, Underglove, Green, Size 9″.

NSN: 6515-00-NIB-0742—Gloves, Surgical, Powder-free, Biogel, Orthopro, Overglove, Straw colored, Size 6″.

NSN: 6515-00-NIB-0743—Gloves, Surgical, Powder-free, Biogel, Orthopro, Overglove, Straw colored, Size 6.5″.

NSN: 6515-00-NIB-0744—Gloves, Surgical, Powder-free, Biogel, Orthopro, Overglove, Straw colored, Size 7″.

NSN: 6515-00-NIB-0745—Gloves, Surgical, Powder-free, Biogel, Orthopro, Overglove, Straw colored, Size 7.5″.

NSN: 6515-00-NIB-0746—Gloves, Surgical, Powder-free, Biogel, Orthopro, Overglove, Straw colored, Size 8″.

NSN: 6515-00-NIB-0747—Gloves, Surgical, Powder-free, Biogel, Orthopro, Overglove, Straw colored, Size 8.5″.

NSN: 6515-00-NIB-0748—Gloves, Surgical, Powder-free, Biogel, Orthopro, Overglove, Straw colored, Size 9″.

NSN: 6515-00-NIB-0749—Gloves, Surgical, Powder-free, Triumph LT, White, Size 5.5″.

NSN: 6515-00-NIB-0750—Gloves, Surgical, Powder-free, Triumph LT, White, Size 6″.

NSN: 6515-00-NIB-0751—Gloves, Surgical, Powder-free, Triumph LT, White, Size 6.5″.

NSN: 6515-00-NIB-0752—Gloves, Surgical, Powder-free, Triumph LT, White, Size 7″.

NSN: 6515-00-NIB-0753—Gloves, Surgical, Powder-free, Triumph LT, White, Size 7.5″.

NSN: 6515-00-NIB-0754—Gloves, Surgical, Powder-free, Triumph LT, White, Size 8″.

NSN: 6515-00-NIB-0755—Gloves, Surgical, Powder-free, Triumph LT, White, Size 8.5″.

NSN: 6515-00-NIB-0756—Gloves, Surgical, Powder-free, Triumph LT, White, Size 9″.

NSN: 6515-00-NIB-0757—Gloves, Surgical, Powder-free, Eudermic, Brown, Size 5.5″.

NSN: 6515-00-NIB-0758—Gloves, Surgical, Powder-free, Eudermic, Brown, Size 6″.

NSN: 6515-00-NIB-0759—Gloves, Surgical, Powder-free, Eudermic, Brown, Size 6.5″.

NSN: 6515-00-NIB-0760—Gloves, Surgical, Powder-free, Eudermic, Brown, Size 7″.

NSN: 6515-00-NIB-0761—Gloves, Surgical, Powder-free, Eudermic, Brown, Size 7.5″.

NSN: 6515-00-NIB-0762—Gloves, Surgical, Powder-free, Eudermic, Brown, Size 8″.

NSN: 6515-00-NIB-0763—Gloves, Surgical, Powder-free, Eudermic, Brown, Size 8.5″.

NSN: 6515-00-NIB-0764—Gloves, Surgical, Powder-free, Eudermic, Brown, Size 9″.

NSN: 6515-00-NIB-0765—Gloves, Surgical, Powder-free, OR Classic, White, Size 5.5″.

NSN: 6515-00-NIB-0766—Gloves, Surgical, Powder-free, OR Classic, White, Size 6″.

NSN: 6515-00-NIB-0767—Gloves, Surgical, Powder-free, OR Classic, White, Size 6.5″.

NSN: 6515-00-NIB-0768—Gloves, Surgical, Powder-free, OR Classic, White, Size 7″.

NSN: 6515-00-NIB-0769—Gloves, Surgical, Powder-free, OR Classic, White, Size 7.5″.

NSN: 6515-00-NIB-0770—Gloves, Surgical, Powder-free, OR Classic, White, Size 8″.

NSN: 6515-00-NIB-0771—Gloves, Surgical, Powder-free, OR Classic, White, Size 8.5″.

NSN: 6515-00-NIB-0772—Gloves, Surgical, Powder-free, OR Classic, White, Size 9″.

NPA: Bosma Industries for the Blind, Inc., Indianapolis, IN.

Contracting Activity: Department of Veterans Affairs National Acquisition Center, Hines, IL

Coverage: C-List for 100% of the requirement of the Department of Veterans Affairs as aggregated by the Department of Veterans Affairs National Acquisition Center, Hines, IL.

NSN: 5340-01-525-0574—Bracket, Angle, Medium Tactical Vehicles.

NSN: 5340-00-602-4977—Bracket, Mounting, Hercules M88A2 Recovery Vehicle.

NSN: 5340-00-627-5411—Bracket, Mounting, Stratofortress B-52 Aircraft.

NSN: 5340-01-519-7318—Bracket, Angle, Truck 1-1/4 Ton HMMWV Vehicle System.

NSN: 5340-01-112-9693—Bracket, Angle, Bradley Fighting Vehicle System.

NSN: 5340-01-167-1810—Bracket, Mounting, Personnel M113A1, M113A2, M-113A3 Armored Carrier.

NSN: 5340-01-084-1232—Bracket, Mounting, Cargo Truck.

NSN: 5340-01-078-7642—Bracket, Mounting, Abrams M-1 Tank.

NSN: 5340-01-288-5231—Bracket, Double Angle, Bradley Fighting Vehicle System.

NSN: 5340-01-163-4245—Bracket, Double Angle, Hercules M88A2 Recovery Vehicle.

NSN: 5340-01-500-4197—Bracket, Mounting, Mine Resistant Ambush Protected Fighting Vehicle.

NSN: 5340-01-162-7040—Bracket, Angle, Personnel M113A1, M113A2, M-113A3 Armored Carrier.

NSN: 5340-01-098-5119—Bracket, Mounting, Howitzer M-109.

NSN: 5340-01-525-0579—Bracket, Angle, Medium Tactical Vehicles.

NSN: 5340-01-347-9608—Bracket, Mounting, F-16 Aircraft.

NSN: 5340-01-521-0196—Bracket, Mounting, Non-Weapons System.

NSN: 5340-01-102-3483—Bracket, Angle, Abrams M-1 Tank.

NSN: 5340-01-386-2917—Bracket, Angle, Command AAVC-7A1 Amphibious Assault Vehicle.

NSN: 5340-01-230-0219—Bracket, Angle, Abrams M-1 Tank.

NSN: 5340-01-272-6634—Bracket, Mounting, Truck 1-1/4 Ton HMMWV Vehicle System.

NSN: 5340-01-329-8589—Bracket, Mounting, Bradley Fighting Vehicle System.

NSN: 5340-01-218-8346—Bracket, Angle, Aviation.

NSN: 5340-01-458-0473—Bracket, Mounting, M-16 Rifle 5.56MM.

NPA: Herkimer County Chapter, NYSARC, Herkimer, NY.

Contracting Activity: Defense Logistics Agency Troop Support, Hardware L&M, Philadelphia, PA.

Coverage: C-List for 100% of the requirement of the Department of Defense, as aggregated by the Defense Logistics Agency Troop Support, Hardware L&M, Philadelphia, PA.

Services

Service Type/Location: Custodial and Grounds Maintenance, Keyport Three Dimensional Range, Bldg. 475, NAVFAC NW., Zelatched Point, WA.

NPA: Skookum Educational Programs, Bremerton, WA.

Contracting Activity: Dept Of The Navy, Navfac Northwest, Silverdale, WA.

Service Type/Location: Custodial, White Mountain National Forest, Saco Ranger Administrative Site, Routes 112, 33 Kancamagus Highway, Conway, NH.

NPA: Northern New England Employment Services, Portland, ME.

Contracting Activity: Department of Agriculture, Forest Service, Allegheny National Forest, Warren, PA.

Barry S. Lineback,
Director, Business Operations.

[FR Doc. 2011-33541 Filed 12-29-11; 8:45 am]

BILLING CODE 6353-01-P